NUCLEAR REGULATORY COMMISSION

Sunshine Act Meetings

AGENCY HOLDING THE MEETING: Nuclear Regulatory Commission.

DATE: Weeks of February 3, 10, 17, 24, March 3, 10, 2003.

PLACE: Commissioners' Conference Room, 11555 Rockville Pike, Rockville, Maryland.

STATUS: Public and closed.

MATTERS TO BE CONSIDERED:

Week of February 3, 2003

Tuesday, February 4, 2003

2 p.m. Briefing on lessons learned: Davis-Besse Reactor Vessel Head (RVH) Degradation (public meeting) (contact: Stacey Rosenberg, 301-415-1733)

This meeting will be webcast live at the Web address— http://www.nrc.gov.

Wednesday, February 5, 2003

1 p.m. Discussion of governmental issues (closed—Ex. 1)

Week of February 10, 2003—Tenure

Monday, February 10, 2003

10 a.m. Briefing on status of Office of Nuclear Reactor Regulation (NRR) programs, performance, and plans (public meeting) (contact: Michael Case, 301-415-1275)

This meeting will be webcast live at the Web address— http://www.nrc.gov.

Tuesday, February 11, 2003

10 a.m. Briefing on status of Office of the Chief Financial Officer (OCFO) programs, performance, and plans (public meeting) (contact: Patrice Williams-Johnson, 301-415-5732)

This meeting will be webcast live at the Web address— http://www.nrc.gov.

Week of February 17, 2003—Tentative

There are no meetings scheduled for the week of February 17, 2003.

Week of February 24, 2003—Tentative

Monday, February 24, 2003

2 p.m. Meeting with National Association of Regulatory Utility Commissioners (NARUC) (public meeting)

This meeting will be webcast live at the Web address— http://www.nrc.gov.

Week of March 3, 2003—Tentative

Monday, March 3, 2003

10 a.m. Briefing on status of Office of Nuclear Material Safety and Safeguards (NMSS) programs—Waste Safety (public meeting) (contact: Claudia Seelig, 301-415-7243)

This meeting will be webcast live at the Web address— http://www.nrc.gov.

2 p.m. Discussion of security issues (closed—Ex. 1)

Week of March 10, 2003—Tentative

There are no meetings scheduled for the week of March 10, 2003.

The schedule for Commission meetings is subject to change on short notice. To verify the status of meetings call (recording)—(301) 415-1292. Contact person for more information: David Louis Gamberoni (301) 415-1651.

The NRC Commission Meeting Schedule can be found on the Internet at: http://www.nrc.gov/what-we-do/policy-making-schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 30, 2003.
David Louis Gamberoni,
Technical Coordinator, Office of the Secretary.

[FR Doc. 03-2713 Filed 1-31-03; 2:18 pm]

BILLING CODE 7590-01-M